DEPARTMENT OF COMMERCE

International Trade Administration

[A-433-813]

Strontium Chromate From Austria: Amended Preliminary Determination of Sales at Less Than Fair Value

AGENCY: Enforcement and Compliance, International Trade Administration, Department of Commerce.

SUMMARY: The Department of Commerce (Commerce) is amending the preliminary determination of the less than fair value (LTFV) investigation of strontium chromate from Austria to correct a significant ministerial error.

DATES: Applicable June 18, 2019.

FOR FURTHER INFORMATION CONTACT: Brian Smith or Jaron Moore, AD/CVD Operations, Office VIII, Enforcement and Compliance, International Trade Administration, U.S. Department of Commerce, 1401 Constitution Avenue NW, Washington, DC 20230; telephone: (202) 482-1766 or (202) 482-3640, respectively.

SUPPLEMENTARY INFORMATION:

Background

On May 17, 2019, Commerce published in the Federal Register the Preliminary Determination,¹ and completed the disclosure of all calculation materials to interested parties. On May 20, 2019, Lumimove Inc. d.b.a. WPC Technologies (the petitioner) timely filed a ministerial error allegation regarding the Preliminary Determination.²

¹ See Strontium Chromate from Austria: Preliminary Determination of Sales at Not Less Than Fair Value and Postponement of Final Determination, 84 FR 22443 (May 17, 2019) (Preliminary Determination).

² See Petitioner's Letter, “Strontium Chromate from Austria: Ministerial Error Comments,” dated May 20, 2019 (Petitioner's Ministerial Error Allegation).

Period of Investigation

The period of investigation is July 1, 2017 through June 30, 2018.

Scope of Investigation

The product covered by this investigation is strontium chromate from Austria. For a complete description of the scope of this investigation, see the Appendix to this notice.

Analysis of the Significant Ministerial Error Allegation

Commerce will analyze any comments received and, if appropriate, correct any significant ministerial error by amending the preliminary determination according to 19 CFR 351.351.224(e). A ministerial error is defined in 19 CFR 351.224(f) as “an error in addition, subtraction, or other arithmetic function, clerical error resulting from inaccurate copying, duplication, or the like, and any other similar type of unintentional error which the Secretary considers ministerial.” ³ A significant ministerial error is defined as a ministerial error, the correction of which, singly or in combination with other errors, would result in: (1) a change of at least five absolute percentage points in, but not less than 25 percent of, the weighted-average dumping margin calculated in the original (erroneous) preliminary determination; or (2) a difference between a weighted-average dumping margin of zero or de minimis and a weighted-average dumping margin of greater than de minimis or vice versa.⁴

³ See also section 735(e) of the Tariff Act of 1930, as amended (the Act).

⁴ See 19 CFR 351.224(g).

Amended Preliminary Determination

Pursuant to 19 CFR 351.224(e) and (g)(1), Commerce is amending the Preliminary Determination to reflect the correction of one ministerial error made in the calculation of the estimated weighted-average dumping margin for Habich GmbH (Habich).⁵ This error is a significant ministerial error within the meaning of 19 CFR 351.224(g) because Habich's margin increases from 1.24 percent to 2.50 percent as a result of correcting this ministerial error, exceeding the specified threshold, i.e., representing a difference between a de minimis margin and a margin above de minimis.⁶

⁵ See Memorandum, “Less-Than-Fair-Value Investigation of Strontium Chromate from Austria: Ministerial Error Allegation in the Preliminary Determination,” dated concurrently with this notice (Ministerial Error Memorandum).

⁶ Id.

All-Others Rate

Because the amended preliminary margin is above de minimis, we determined an estimated all-others rate for all exporters and producers not individually examined. This rate shall be an amount equal to the weighted average of the estimated weighted-average dumping margins established for exporters and producers individually investigated, excluding any zero and de minimis margins, and any margins determined entirely under section 776 of the Act. We calculated an individual estimated weighted-average dumping margin for Habich, the only individually examined exporter/producer in this investigation. Because the only individually calculated dumping margin is not zero, de minimis, or based entirely on facts otherwise available, the estimated weighted-average dumping margin calculated for Habich is the margin assigned to all other producers and exporters, pursuant to section 735(c)(5)(A) of the Act.

Amended Preliminary Determination

Commerce preliminarily determines that the following amended weighted-average dumping margins exist for the period July 1, 2017 through June 30, 2018:

Exporter/producer | Estimated weighted- average dumping margin (percent)
Habich GmbH | 2.50
All Others | 2.50

Amended Cash Deposits and Suspension of Liquidation

The collection of cash deposits and suspension of liquidation will be revised according to the rates calculated in this amended preliminary determination, in accordance with sections 733(d) and (f) of the Act, and 19 CFR 351.224. Because the rates are increasing from the Preliminary Determination, the amended cash deposit rates will be effective on the date of publication of this notice in the Federal Register. Parties will be notified of this determination, in accordance with sections 733(d) and (f) of the Act.

Disclosure

We intend to disclose the calculations performed to parties in this proceeding within five days after public announcement of the amended preliminary determination, in accordance with 19 CFR 351.224.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. Section 351.210(e)(2) of Commerce's regulations requires that a request by exporters for postponement of the final determination be accompanied by a request for extension of provisional measures from a four-month period to a period not more than six months in duration.

On April 12, 2019, pursuant to 19 CFR 351.210(e), Habich requested that Commerce postpone the final determination and that provisional measures be extended to a period not to exceed six months.⁷ In accordance with section 735(a)(2)(A) of the Act and 19 CFR 351.210(b)(2)(ii), because (1) the preliminary determination, as amended, is affirmative; (2) the requesting exporter accounts for a significant proportion of exports of the subject merchandise; and (3) no compelling reasons for denial exist, Commerce is postponing the final determination and extending the provisional measures from a four-month period to a period not greater than six months. Accordingly, Commerce will make its final determination no later than 135 days after the date of publication of the Preliminary Determination.⁸

⁷ See Habich's letter, “Strontium Chromate from Austria; Habich GmbH's Request to Extend the Final Determination,” dated April 12, 2019.

⁸ See Preliminary Determination.

International Trade Commission Notification

In accordance with section 733(f) of the Act, we will notify the International Trade Commission of our amended preliminary determination.

Notification to Interested Parties

This amended preliminary determination is issued and published in accordance with sections 733(f) and 777(i)(1) of the Act and 19 CFR 351.224(e).

Dated: June 12, 2019.
Jeffrey I. Kessler,
Assistant Secretary for Enforcement and Compliance.

Appendix

Scope of the Investigation

The merchandise covered by these investigations is strontium chromate, regardless of form (including but not limited to, powder (sometimes known as granular), dispersions (sometimes known as paste), or in any solution). The chemical formula for strontium chromate is SrCrO4 and the Chemical Abstracts Service (CAS) registry number is 7789-06-2.

Strontium chromate that has been blended with another product or products is included in the scope if the resulting mix contains 15 percent or more of strontium chromate by total formula weight. Products with which strontium chromate may be blended include, but are not limited to, water and solvents such as Aromatic 100 Methyl Amyl Ketone (MAK)/2-Heptanone, Acetone, Glycol Ether EB, Naphtha Leicht, and Xylene. Subject merchandise includes strontium chromate that has been processed in a third country into a product that otherwise would be within the scope of these investigations if processed in the country of manufacture of the in-scope strontium chromate.

The merchandise subject to these investigations is currently classified in the Harmonized Tariff Schedule of the United States (HTSUS) under subheading 2841.50.9100. Subject merchandise may also enter under HTSUS subheading 3212.90.0050. While the HTSUS subheadings and CAS registry number are provided for convenience and customs purposes, the written description of the scope is dispositive.

[FR Doc. 2019-12840 Filed 6-17-19; 8:45 am]

BILLING CODE 3510-DS-P